DEPARTMENT OF COMMERCE

International Trade Administration

[A-201-504]

Porcelain-on-Steel Cookware from Mexico: Notice of Extension of Time Limit for Antidumping Duty Administrative Review

AGENCY: Import Administration, International Trade Administration, United States Department of Commerce.

EFFECTIVE DATE: March 14, 2002.

FOR FURTHER INFORMATION CONTACT: Kate Johnson or Rebecca Trainor at (202) 482-4929 or (202) 482-4007, respectively, Office of AD/CVD Enforcement, Import Administration, International Trade Administration, U.S. Department of Commerce, 14th Street and Constitution Avenue, N.W., Washington, D.C., 20230.

POSTPONEMENT OF FINAL RESULTS OF ADMINISTRATIVE REVIEW:

The Department of Commerce (“the Department”) published the preliminary results of the administrative review of the antidumping duty order on Porcelain-on-Steel Cookware from Mexico on November 13, 2001 (66 FR 56799). The current deadline for the final results in this review is March 13, 2002. In accordance with section 751(a)(3)(A) of the Tariff Act of 1930 (“the Act”), as amended, the Department finds that it is not practicable to complete this administrative review within the original time frame because it is conducting a changed-circumstances antidumping duty administrative review in which it is considering revoking the order on porcelain-on-steel cookware from Mexico and rescinding this administrative review. Thus, the Department is extending the time limit for completion of the final results until May 12, 2002, which is 180 days after the date on which notice of the preliminary results was published in the Federal Register.

March 8, 2002
Richard W. Moreland,
Deputy Assistant Secretary for Import Administration.

[FR Doc. 02-6174 Filed 3-13-02; 8:45 am]

BILLING CODE 3510-DS-S